DEPARTMENT OF HOMELAND SECURITY

[Docket No. USCBP-2022-0027]

Privacy Act of 1974; System of Records

AGENCY: U.S. Customs and Border Protection, Department of Homeland Security.

ACTION: Notice of new Privacy Act system of records.

SUMMARY: In accordance with the Privacy Act of 1974, the Department of Homeland Security (DHS)/U.S. Customs and Border Protection (CBP) proposes to establish a new DHS system of records titled, “DHS/CBP-027 Customs Broker Management (CBM).” The records in this system are currently covered under the “DHS/CBP-010 Persons Engaged in International Trade in Customs and Border Protection Licensed/Regulated Activities Systems of Records” and historically under the “Treasury/CS.069 Customs Brokers File”. DHS/CBP is creating this new System of Records Notice (SORN) to distinguish the Customs Broker application and exam, license, and vetting records from the other records in “DHS/CBP-010 Persons Engaged in International Trade in Customs and Border Protection Licensed/Regulated Activities Systems of Records”. This newly established system will be included in DHS's inventory of record systems.

DATES: Submit comments on or before August 22, 2022. This new system will be effective upon publication. New or modified routine uses will be effective August 22, 2022.

ADDRESSES: You may submit comments, identified by docket number USCBP-2022-0027 by one of the following methods:

• Federal e-Rulemaking Portal: http://www.regulations.gov. Follow the instructions for submitting comments.

• Fax: 202-343-4010.

• Mail: Lynn Parker Dupree, Chief Privacy Officer, Privacy Office, Department of Homeland Security, Washington, DC 20528-0655.

Instructions: All submissions received must include the agency name and docket number USCBP-2022-0027. All comments received will be posted without change to http://www.regulations.gov, including any personal information provided.

Docket: For access to the docket to read background documents or comments received, go to http://www.regulations.gov.

FOR FURTHER INFORMATION CONTACT: For general questions, please contact: Debra L. Danisek, (202) 344-1610, privacy.cbp@cbp.dhs.gov, CBP Privacy Officer, U.S. Customs and Border Protection, Ronald Reagan Building, 1300 Pennsylvania Avenue NW, Washington, DC 20229. For privacy questions, please contact: Lynn Parker Dupree, (202) 343-1717, Privacy@hq.dhs.gov, Chief Privacy Officer, Privacy Office, Department of Homeland Security, Washington, DC 20528-0655.

SUPPLEMENTARY INFORMATION:

I. Background

In accordance with the Privacy Act of 1974, 5 U.S.C. 552a, the Department of Homeland Security (DHS) proposes to establish a new DHS system of records titled, “DHS/U.S. Customs and Border Protection (CBP)-027 Customs Broker Management.” The records in this system are currently covered under the “DHS/CBP-010 Persons Engaged in International Trade in Customs and Border Protection Licensed/Regulated Activities Systems of Records” (73 FR 77753, December 19, 2008) and historically under the “Treasury/CS.069 Customs Brokers File” (66 FR 52984, October 18, 2001). DHS/CBP is creating this new System of Records Notice to distinguish the Customs Broker application, exam, license, and vetting records from the other records in “DHS/CBP-010 Persons Engaged in International Trade in Customs and Border Protection Licensed/Regulated Activities Systems of Records” (73 FR 77753, December 19, 2008). In addition, CBP provides notice for a new collection and maintenance of information (i.e., audio and video recordings) from individuals taking the Customs Broker License Exam (CBLE).

Customs Brokers are private individuals, associations, corporations, or partnerships licensed, regulated, and empowered by CBP to assist importers and exporters in meeting federal requirements governing imports and exports. Customs Brokers submit necessary information and appropriate payments to DHS/CBP on behalf of their clients and charge a fee for their service. Customs Brokers must have expertise in the entry procedures, admissibility requirements, classifications, valuation, and applicable rates of duties, taxes, and fees for imported merchandise.

Pursuant to 19 CFR 111.11, an individual is eligible to qualify for a Customs Broker license if he or she (1) is a U.S. citizen on the date of submission of the application referred to in 19 CFR 111.12(a) (OMB Control Number 1651-0034/CBP Form 3124) and is not an officer or employee of the U.S. government, (2) is the age of 21 prior to the date of submission of the application, (3) possesses good moral character, and (4) has passed the Customs Broker License Exam, by attaining a passing grade (75 percent or higher) on the examination taken within the 3-year period before submission of the application.

A partnership is eligible to qualify for a Customs Broker license if they have at least one member of the partnership who is a broker. See 19 CFR 111.11(b). An association or corporation is eligible to qualify for a Customs Broker license if (1) they are empowered under its articles of association or articles of incorporation to transact customs business as a broker, and (2) have at least one officer who is a broker. See 19 CFR 111.11(c).

DHS/CBP manages the Customs Broker's license program and collects information from applicants when they register to take the Customs Broker License Exam, during the administration of the Customs Broker License Exam, when they apply for a broker's license, throughout the background investigation processes, through the triennial reporting process, and through continuing education requirements.

The Customs Broker License Exam is offered to applicants twice a year. Applicants can go to https://e.cbp.dhs.gov/ecbp/#/main to register to take the exam. In addition to providing biographic information when registering, applicants are also required to pay a registration fee which is completed though the eCBP portal. Applicants can register for either an in-person or remotely proctored examination. DHS/CBP may video and/or audio record applicants taking either in-person or proctored exams. These recordings allow DHS/CBP to ensure a fair and equitable examination and monitor compliance with examination procedures and requirements.

Once an applicant has successfully passed the exam, the applicant can apply for a Customs Broker license at a CBP facility near where the applicant plans to transact business as a Broker. The Customs Broker license package requires applicants to submit additional biographic information, via CBP Form 3124 (OMB Control No. 1651-0034), and fingerprints are collected at a CBP facility by a CBP Officer and sent to the CBP Trusted Worker Program System (TWP).¹ DHS/CBP will use this information to conduct a thorough background investigation, which will include a fingerprint analysis, review of character references, as well as reviews of credit reports and arrest records. DHS/CBP will use all available information to determinate whether to grant a Customs Broker license. Additionally, DHS/CBP conducts periodic reviews of Broker license holders to determine if a Broker's license should be revoked.

¹ See U.S. DEPARTMENT OF HOMELAND SECURITY, U.S. CUSTOMS AND BORDER PROTECTION, PRIVACY IMPACT ASSESSMENT FOR THE TRUSTED WORKER PROGRAM SYSTEM (TWP), DHS/CBP/PIA-062, available at https://www.dhs.gov/privacy-documents-us-customs-and-border-protection.

DHS/CBP stores information related to Broker's licenses in the Automated Commercial Environment system (ACE) and on designated CBP servers. Fingerprints collected as part of the background investigation process are stored in the DHS Office of Biometric Identity Management (OBIM) Automatic Biometric Identification System (IDENT). In addition, some information will be stored on DHS contractors' systems to assist in the administration of the Customs Broker License Examination. Any files related to appeals will be transferred to CBP and maintained on a CBP system.

Consistent with DHS' information sharing mission, information stored in the DHS/CBP-027 Customs Broker Management system of records may be shared with other DHS components that have a need to know the information to carry out their national security, law enforcement, immigration, intelligence, or other homeland security functions. In addition, DHS/CBP may share information with appropriate federal, state, local, tribal, territorial, foreign, or international government agencies consistent with the routine uses set forth in this system of records notice.

On September 10, 2021, CBP published a non-Privacy Act Notice of Proposed Rulemaking (NPRM) in the Federal Register (86 FR 50794) proposing to amend the CBP regulations to require continuing education for individual customs broker license holders (individual brokers) and to create a framework for administering this requirement. The Notice of Proposed Rulemaking provided for a 60-day comment period, which ended on November 9, 2021. Under the notice of proposed rulemaking, individual brokers must earn continuing education credits for a variety of training or educational activities, whether in-person or online, including the completion of coursework, seminars, workshops, symposia, or conventions, and, subject to certain limitations and requirements, the preparation and presentation of subject matter as an instructor, discussion leader, or speaker. Individual brokers must report and certify their compliance with the continuing broker education requirement upon the submission of the Triennial Status Report (TSR). CBP intends to publish a Final Rule which will effectuate the changes described above.

Furthermore, DHS is issuing a concurrent Privacy Act Notice of Proposed Rulemaking to exempt this system of records from certain provisions of the Privacy Act elsewhere in the Federal Register.

This newly established system will be included in DHS's inventory of record systems.

II. Privacy Act

The fair information practice principles found in the Privacy Act underpin the statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the Judicial Redress Act, along with judicial review for denials of such requests. In addition, the Judicial Redress Act prohibits disclosures of covered records, except as otherwise permitted by the Privacy Act.

Below is the description of the DHS/CBP-027 Customs Broker Management System of Records.

In accordance with 5 U.S.C. 552a(r), DHS has provided a report of this system of records to the Office of Management and Budget and to Congress.

SYSTEM NAME AND NUMBER:

Department of Homeland Security (DHS)/U.S. Customs and Border Protection (CBP)-027 Customs Broker Management System of Records.

SECURITY CLASSIFICATION:

Unclassified.

SYSTEM LOCATION:

Records are maintained at CBP Headquarters in Washington, DC, and field offices. CBP maintains records in the Automated Commercial Environment system, as well as other applications that support Customs Broker License Examination and program management. Audio and video recordings of remotely proctored exams, images of examinees, images of examinees' identification documents, and broker exam results are stored on vendor servers. Any files that are subject to Freedom of Information Act (FOIA) and Privacy Act requests will be transferred to CBP by the vendor and maintained on a CBP system.

SYSTEM MANAGER(S):

Director, Commercial Operations, Revenue and Entry, Office of Trade, U.S. Customs and Border Protection, 1331 Pennsylvania Avenue NW, Washington, DC 20229.

AUTHORITY FOR MAINTENANCE OF THE SYSTEM:

19 U.S.C. 1641 and 19 CFR 111; and 31 U.S.C. 7701(c).

PURPOSE(S) OF THE SYSTEM:

DHS/CBP maintains information about individuals to determine (1) an individual's suitability for acquiring a Customs Broker license, whether that individual is representing him or herself or affiliated with an association, corporation, or partnership, and (2) determine whether a licensed Customs Broker continues to meet the eligibility requirements to maintain that Customs Broker license.

CATEGORIES OF INDIVIDUALS COVERED BY THE SYSTEM:

Categories of individuals in the system include:

1. Individuals applying for, issued, or denied a Customs Broker license, whether individually or as part of an organization, including individuals who register for and attempt the Customs Broker License Examination;

2. Individuals working for, or applying to work for, a licensed customs broker, association, corporation, or partnership; and

3. Any other individuals relevant to CBP's determination of the granting and maintenance of a Customs Broker license.

CATEGORIES OF RECORDS IN THE SYSTEM:

DHS/CBP collects the following information from individuals registering for the Customs Broker License Examination through the eCBP portal (OMB Control No. 1651-0034):

• Individual's Name (First, Last) (Middle initial is optional);

• Residence Address and Mailing Address (Street, City, State, Zip Code);

• Email Address;

• Primary Phone Number;

• Port of Affiliation;

• Date of Birth;

• Social Security number (SSN); and

• American Disabilities Act request for a Reasonable Accommodation.

CBP also assigns four Unique Identifying Numbers (UID) to the examinee after they register on eCBP:

• ACE ID;

• Exam ID;

• Receipt Number; and

• Pay.Gov ID.

DHS/CBP collects the following information from individuals through vendor servers during the Customs Broker License Examination:

• Video recording and photo capture of examinee's face at the Customs Broker License Exam check-in process;

• Images of examinees;

• Images of examinees identification documents;

• Video/audio recording of examinees while testing; and

• Broker exam results.

Individuals who have passed the Customs Broker License Exam and are now applying for Customs Brokers License via the CBP 3124 Form (OMB Control No. 1651-0034) and through the Trusted Worker Program System, provide CBP with these additional data elements:

• Type of license applying for (individual, association, corporation, or partnership);

• Has the applicant ever applied for a Customs Broker License? (yes or no);

• Has the applicant (or any Officer, Member, or Principal) ever had a license suspended, refused, revoked, or cancelled? (yes or no);

• Is this applicant (or any Officer, Member, or Principal) an Officer or Employee of the United States? (yes or no);

• Place of Birth (City and State);

• Tax Identification Number (TIN), or Employer Identification Number (EIN);

• U.S. Citizenship (natural-born or naturalized, and date and place);

• Criminal History;

• Financial History (Bankruptcy of personal or business finances for which you had oversight);

• Proposed type of Customs Business (Individual, Association, Corporation, Partnership or Employee);

• Employment and Character References (References Names, Phone Numbers, Addresses);

• Any correspondence (e.g., emails, letters, phone records) relating to persons engaged in international trade in CBP licensed/regulated activities; and

• Fingerprints.

DHS/CBP collects the following information from associations, corporations, or partnerships through the Customs Brokers License application, CBP 3124 Form (OMB Control No. 1651-0034):

○ Date associations, corporation, or partnership was organized;

○ State where organized;

○ Attachments:

○ Copies of articles of incorporation or association; or

○ Evidence of the partnership (copies of articles of agreement or affidavit signed by all partners.

○ Names, Addresses, Titles, and Dates of Birth of all Officers of the Association or Corporation, and all Principals who have a controlling interest, who hold individual customs brokers licenses and give the general nature of duties of each, or if a partnership, the names and addresses of members who hold such licenses.

○ Names, Addresses, Titles, and Dates of Birth of all Officers and Principals (including corporations, trusts, and/or other organizations) who have a controlling interest, and partners who do not hold customs brokers licenses.

CBP collects these additional data elements on the Triennial Status Report:

• Broker License Number to identify the correct license for which the report is being filed;

• Payment Information;

○ Fee Amount;

○ Payer Name; and

○ Payer Email Address.

• Employee list for all employees of a Customs Broker, including:

○ Name (First, Last);

○ Social Security Number;

○ Date of Birth;

○ Place of Birth; and

○ Home Address (Street, City, State, Zip Code).

• Proof of continuing education requirement.

Additionally, CBP periodically collects the following information from the CBP licensed brokers, associations, corporations, or partnerships:

• Requests for written approval to employ individual brokerage employees who have been convicted of a felony.

RECORD SOURCE CATEGORIES:

Records from Customs Broker License Examination applicants are obtained from the eCBP portal online registration at https://e.cbp.dhs.gov/ecbp/#/main. Records from Customs Broker applicants come directly from Customs Broker applicants using CBP Form 3124, and through information given by the applicant at a CBP facility (same information) submitted to DHS as stipulated through the licensing port's requests and stored in the Automated Commercial Environment. Information on Customs Broker applicants may come from other federal, state, tribal, or local law enforcement agencies during the background investigation. DHS/CBP may obtain records from credit reporting agencies as part of the background investigation. Additional information about Custom Broker applicants may come from character references. DHS/CBP obtains information about character references from the Customs Broker applicant as part of the application as well as from the character reference during interviews. Audio and video recordings of remotely and proctored exams, images of examinees, images of examinees' identification documents, and broker exam results are stored on vendor servers. Any files that are subject to Freedom of Information Act (FOIA) and Privacy Act requests will be transferred to CBP by the vendor and maintained on a CBP system.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other federal agencies conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. secs. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another federal agency or federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To appropriate federal, state, local, tribal, or foreign governmental agencies or multilateral governmental organizations responsible for investigating or prosecuting the violations of, or for enforcing or implementing, a statute, rule, regulation, order, license, or treaty where DHS determines that the information would assist in the enforcement of civil or criminal laws.

J. To an appropriate federal, state, local, tribal, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant or other benefit and disclosure is appropriate to the proper performance of the official duties of the person making the request.

K. To a court, magistrate, or administrative tribunal in the course of presenting evidence, including disclosures to opposing counsel or witnesses in the course of civil discovery, litigation, or settlement negotiations or in connection with criminal law proceedings.

L. To third parties, such as credit bureaus, during the course of a law enforcement investigation or background check to the extent necessary to obtain information pertinent to the investigation, provided disclosure is appropriate to the proper performance of the official duties of the officer making the disclosure.

M. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

POLICIES AND PRACTICES FOR STORAGE OF RECORDS:

DHS/CBP stores biographic records related to Broker Management in the Automated Commercial Environment, or within a CBP server. DHS/CBP stores biometric records related to Broker Management in IDENT. Audio recordings, video recordings, images of examinees, images of examinees identification documents, and broker exam results are stored on a vendor-owned server. Any files related to appeals will be transferred to CBP and maintained on a CBP system.

POLICIES AND PRACTICES FOR RETRIEVAL OF RECORDS:

DHS/CBP may retrieve records by individual's name (first, last, or middle initial), organization name, Social Security number, tax identification number, employer identification number, date of birth, port or port number, email address, phone number, payment receipt number, project area request type (e.g., request date), Customs Broker License Exam Project Areas (e.g., exam date, pass/fail exam score, exam ID, and application date).

POLICIES AND PRACTICES FOR RETENTION AND DISPOSAL OF RECORDS:

In accordance with NARA-approved agency disposition authority, “Licensing Records” DAA-0568-2017-0006-0003, DHS/CBP retains biographic records in the Automated Commercial Environment system for six years from date that the license is terminated or the death of the licensee, as applicable, including the background check records uncovered as a result of the fingerprints used in the background check. CBP does not retain the actual fingerprints; however, CBP sends the fingerprints to OBIM and they are stored for 75 years or when no longer needed for legal or business purposes, whichever is later. The audio and video recordings, images of examinees, images of examinees identification documents, and broker exam results captured during the Customs Broker Licensing Exam process will be retained in accordance with the NARA-approved agency disposition authority, “Customhouse Broker's Examination Records” DAA-0568-2017-0006-0002, for three years and six months after exam and final appeal is concluded, whichever is applicable. CBP has proposed a new records schedule of 120 days after cutoff or final review, whichever is later for the audio and video recordings, images of examinees, images of examinees' identification documents, and broker exam results data collected and stored by the vendor. Any files subject to any FOIA or Privacy Act request will be transferred to CBP and maintained on a CBP system.

ADMINISTRATIVE, TECHNICAL, AND PHYSICAL SAFEGUARDS:

DHS/CBP safeguards records in this system according to applicable rules and policies, including all applicable DHS automated systems security and access policies. DHS/CBP has imposed strict controls to minimize the risk of compromising the information that is being stored. Access to the computer system containing the records in this system is limited to those individuals who have a need to know the information for the performance of their official duties and who have appropriate clearances or permissions.

RECORD ACCESS PROCEDURES:

DHS/CBP will consider individual requests to determine whether information may be released. Thus, individuals seeking access to and notification of any record contained in this system of records, or seeking to contest its content, may submit a request in writing to the Chief Privacy Officer and CBP's Freedom of Information Act (FOIA) Officer, whose contact information can be found at http://www.dhs.gov/foia under “Contact Information.” If an individual believes more than one component maintains Privacy Act records concerning them, the individual may submit the request to the Chief Privacy Officer and Chief Freedom of Information Act Officer, Department of Homeland Security, Washington, DC 20528-0655 or electronically at https://www.dhs.gov/dhs-foia-privacy-act-request-submission-form. Even if neither the Privacy Act nor the Judicial Redress Act provide a right of access, certain records about the individual may be available under the Freedom of Information Act.

When an individual is seeking records about themself from this system of records or any other Departmental system of records, the individual's request must conform with the Privacy Act regulations set forth in 6 CFR part 5. The individual must first verify their identity, meaning that the individual must provide their full name, current address, and date and place of birth. The individual must sign the request, and the individual's signature must either be notarized or submitted under 28 U.S.C. 1746, a law that permits statements to be made under penalty of perjury as a substitute for notarization. An individual may obtain more information about this process at http://www.dhs.gov/foia. In addition, the individual should, whenever possible:

• Explain why they believe the Department would have information being requested;

• Identify which component(s) of the Department they believe may have the information;

• Specify when the individual believes the records would have been created; and

• Provide any other information that will help Freedom of Information Act staff determine which DHS component agency may have responsive records.

If the request is seeking records pertaining to another living individual, the request must include an authorization from the individual whose record is being requested, authorizing the release to the requester.

Without the above information, the component(s) may not be able to conduct an effective search, and the individual's request may be denied due to lack of specificity or lack of compliance with applicable regulations.

Additionally, individuals seeking access to and notification of any record contained in this system of records, or seeking to contest its content, may submit a request in writing to the Broker Management Branch through the BrokerManagement@cbp.dhs.gov inbox, or to: U.S. Customs and Border Protection, Office of Trade, Trade Policy and Programs, Broker Management Branch, 1331 Pennsylvania Ave. NW, 9th Floor—Broker Management Branch, Washington, DC 20229-1142.

CONTESTING RECORD PROCEDURES:

For records covered by the Privacy Act or covered Judicial Redress Act records, individuals may make a request for amendment or correction of a record of the Department about the individual by writing directly to the Department component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record. Regardless of whether the Privacy Act or Judicial Redress Act applies, individuals who believe that records in CBP's system include incorrect or inaccurate information may direct inquiries to the Broker Management Branch via email through the BrokerManagement@cbp.dhs.gov inbox, or via mail here: U.S. Customs and Border Protection, Office of Trade, Trade Policy and Programs, Broker Management Branch, 1331 Pennsylvania Ave. NW, 9th Floor—Broker Management Branch, Washington, DC 20229-1142.

NOTIFICATION PROCEDURES:

See “Record Access Procedures” above.

EXEMPTIONS PROMULGATED FOR THE SYSTEM:

The Secretary of Homeland Security has exempted this system pursuant to exemption 5 U.S.C. 552a(j)(2) of the Privacy Act, portions of this system are exempt from 5 U.S.C. 552a(c)(3) and (4); (d); (e)(1), (e)(2), (e)(3), (e)(4)(G), (e)(4)(H), (e)(4)(I), (e)(5), and (e)(8); (f); and (g). Additionally, the Secretary has exempted this system pursuant to 5 U.S.C. 552a(k)(2) of the Privacy Act from subsections (c)(3), (d), (e)(1), (e)(4)(G), (e)(4)(H), (e)(4)(I), and (f).

HISTORY:

None.

Lynn P. Dupree,
Chief Privacy Officer, Department of Homeland Security.

[FR Doc. 2022-15711 Filed 7-21-22; 8:45 am]

BILLING CODE 9111-14-P